DEPARTMENT OF THE INTERIOR

Bureau of Land Management

Notice of Application for Withdrawal and Opportunity for Public Meeting; San Bernardino, CA

AGENCY: Bureau of Land Management, Interior.

ACTION: Notice.

SUMMARY: The United States Forest Service (USFS) filed an application with the Bureau of Land Management (BLM), requesting the Secretary of the Interior to withdraw, for 20 years, subject to valid existing rights, approximately 4,203 acres of Federal lands in the San Bernardino National Forest (SBNF), California, from location and entry under the United States mining laws in order to maintain and conserve habitat for four listed threatened and endangered species (Cushenbury buckwheat, Cushenbury Milk-vetch, Cushenbury oxytheca, and Parish's daisy). The application also requests that approximately 440 acres of non-Federal lands within the boundaries of the lands proposed for withdrawal be included in the withdrawal if they are acquired by the United States. This notice temporarily segregates the lands for up to 2 years from location and entry under the United States mining laws, but not from the mineral material sales or mineral or geothermal leasing, to protect the biological resources while the withdrawal application is being processed. This notice also provides the public an opportunity to comment on the proposed withdrawal application and to request a public meeting.

DATES: Comments, including requests for a public meeting, must be received by July 14, 2014.

ADDRESSES: Comments should be sent to the California State Director, Bureau of Land Management, 2800 Cottage Way, Suite W-1623, Sacramento, CA 95825-1886.

FOR FURTHER INFORMATION CONTACT: Elizabeth Easley, BLM California State Office, 916-978-4673 or Scott Eliason, San Bernardino National Forest, 909-382-2830. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The USFS filed an application requesting that the Secretary of the Interior withdraw, for 20 years, subject to valid existing rights, the following described lands located in San Bernardino County, California, from location and entry under the United States mining laws, but not from leasing under the mineral or geothermal leasing, or disposal under the Materials Act of 1947.

The intent of this description is to include the following lands as defined under the April 29, 2003, Carbonate Habitat Management Strategy, within the San Bernardino National Forest Boundary: (1) All Priority Areas within the Furnace Unit; (2) All occupied and designated critical habitat within the Initial Habitat Reserve; and (3) Additional lands being offered for species and habitat conservation as part of two current proposed mine plans.

(a) National Forest System lands

San Bernardino Meridian

T. 3 N., R. 1 W.,

sec. 10, SE¼;

sec. 14, W½NW¼ and W½SW¼;

sec. 15, NE¼;

sec. 22, SE¼;

sec. 23, W½NW¼, W½NE¼SW¼, S½SE¼NE¼SW¼, NW¼SW¼, S½SW¼, S½SW¼NE¼SE¼, S½SE¼NE¼SE¼, S½SW¼NW¼SE¼, S½SE¼NW¼SE¼, and S½SE¼;

sec. 24, S½NE¼SW¼SW¼, S½NW¼SW¼SW¼, and S½SW¼SW¼;

sec. 26, NW¼NW¼;

sec. 27, lot 1, NE¼, N½NW¼, and SW¼NW¼.

T. 3 N., R. 1 E.,

sec. 13, E½ and NW¼;

sec. 14, W½NE¼SW¼, W½SE¼NE¼SW¼, E½NW¼SW¼, NW¼NW¼SW¼, E½SW¼NW¼SW¼, NW¼SW¼NW¼SW¼, NE¼SW¼SW¼, NE¼NW¼SW¼SW¼, E½SE¼SW¼SW¼, and SE¼SW¼;

sec. 19, lot 4, E½SW¼, and W½SE¼;

sec. 23, NE¼NE¼NE¼;

sec. 24, NE¼ and N½NW¼;

sec. 30.

T. 3 N., R. 2 E.,

PB 39, unsurveyed;

PB 46, unsurveyed.

The areas described aggregate 3,039.48 surveyed acres and 1,164 unsurveyed acres, totaling approximately 4,203 acres, more or less, in San Bernardino County, California. (b) The following described non-Federal lands are located within the boundaries of the proposed withdrawal areas. In the event that these non-Federal lands return to public ownership, the application requests that they be subject to the terms and conditions described above.

Non-Federal lands

San Bernardino Meridian

T. 3 N., R. 1 E.,

sec. 13, SW¼;

sec. 14, NE¼, NE¼SE¼, and S½SE¼.

The areas described aggregate 440 acres, more or less, in San Bernardino County, California.

The purpose of the withdrawal is to protect the biological resources within the SBNF, which include four listed threatened and endangered plant species and their designated critical habitat. The withdrawal will implement provisions of the Carbonate Habitat Management Strategy under the SBNF Land Management Plan. It will allow the species and habitat conservation measures needed to offset species and habitat losses specifically associated with two currently proposed mine development projects on the SBNF. These two projects are the Omya Inc. Butterfield Quarry Expansion and the Mitsubishi Cement Company South Quarry project.

No alternative sites were considered, as these lands correspond with the distribution of the listed species habitats, and meet provisions of the Carbonate Habitat Management Strategy.

The use of a right-of-way, interagency agreement, or cooperative agreement would not provide adequate protection from mineral activities.

The USFS does not need to acquire water rights to fulfill the purpose of the requested withdrawal.

The above-described lands are National Forest System lands, and as such, the Secretary will approve a withdrawal only with the consent of the head of the department or agency administering these lands.

The temporary land uses, which may be permitted during this segregative period, include leases, licenses, permits, rights-of-way, and other non-mineral uses consistent with the SBNF Management Plan, other than under the mining laws.

Records relating to the application may be examined by contacting the BLM Public Room at the above address or phone.

On or before July 14, 2014, all persons who wish to submit comments, suggestions, objections or request a public meeting in connection with the proposed withdrawal may present their views in writing to the BLM State Director at the address indicated above.

Before including your address, phone number, email address, or other personal identifying information in your comment, you should be aware that your entire comment—including your personal identifying information—may be made publicly available at any time. Individuals who submit written comments may request confidentiality by asking us in your comment to withhold your personal identifying information from public review; however, we cannot guarantee that we will be able to do so.

Notice is hereby given that the opportunity for a public meeting is afforded in connection with the proposed withdrawal. All interested parties who desire a public meeting for the purpose of being heard on the proposed withdrawal must submit a written request to the State Director, California State Office, BLM at the address indicated above by July 14, 2014. If the BLM authorized officer determines that the BLM will hold a public meeting, the BLM will publish a notice of the time and place in the Federal Register and a local newspaper at least 30 days before the scheduled date of the meeting. The application will be processed in accordance with the regulations set forth in 43 CFR part 2300.

For a period until April 14, 2016, the lands described in this notice will be segregated from location and entry under the United States mining laws unless the application is denied or cancelled or the withdrawal is approved prior to that date.

Cynthia Staszak,
Associate Deputy State Director, Natural Resources.

[FR Doc. 2014-08310 Filed 4-11-14; 8:45 am]

BILLING CODE 3411-15-P